DEPARTMENT OF HEALTH AND HUMAN SERVICES

Administration for Community Living

Agency Information Collection Activities; Submission for OMB Review; Public Comment Request; National Center on Law and Elder Rights-Resource Support and User Satisfaction; OMB# 0985-0060

AGENCY: Administration for Community Living, HHS.

ACTION: Notice.

SUMMARY: The Administration for Community Living (ACL) is announcing that the proposed collection of information listed above has been submitted to the Office of Management and Budget (OMB) for review and clearance as required under section 506(c)(2)(A) of the Paperwork Reduction Act of 1995. This 30-Day notice collects comments on the information collection requirements related to the information collection requirements for the National Center on Law and Elder Rights-Resource Support and User Satisfaction [OMB# 0985-0060].

DATES: Submit written comments on the collection of information by January 18, 2022.

ADDRESSES: Submit written comments and recommendations for the proposed information collection within 30 days of publication of this notice to www.reginfo.gov/public/do/PRAMain. Find the information collection by selecting “Currently under 30-day Review—Open for Public Comments” or by using the search function. By mail to the Office of Information and Regulatory Affairs, OMB, New Executive Office Bldg., 725 17th St. NW, Room 10235, Washington, DC 20503, Attn: OMB Desk Officer for ACL.

FOR FURTHER INFORMATION CONTACT: Aiesha Gurley, Administration for Community Living, Washington, DC 20201, (202) 795-7358 or by email: Aiesha.Gurley@acl.hhs.gov.

SUPPLEMENTARY INFORMATION: In compliance with 44 U.S.C. 3507, ACL has submitted the following proposed collection of information to OMB for review and clearance.

ACL is requesting approval to collect data for the National Center on Law and Elder Rights-Resource Support and User Satisfaction [OMB# 0985-0060]. ACL contracts with a national legal assistance resource center, the National Center on Law and Elder Rights, to provide the required services. Through the contract, ACL provides aging, disability, and related legal professionals with training, technical assistance, complex case consultations and support for demonstration projects regarding contractually identified priority legal topics. The purpose of the information requested is for ACL to ensure that the resource center creates and prioritizes the training, case consultations and technical assistance resources it was contracted to provide and to ensure that the center targets the contractually designated aging network practitioners about the priority subject matters.

This approach enables ACL to make data-informed decisions about the deployment of its resource center assets. These data are necessary for ACL to evaluate contractual compliance with established performance indicators.

These metrics include quantifiable increases in uptake by stakeholders of training, case consultation and technical assistance, and measures of satisfaction with and perceived benefit from these services. For example, the metrics measure successful problem resolution as a result of the services provided and quantifiable data on fulfillment of requests for training, technical assistance, and consultation related to the contractually designated legal and systems development topic areas. The information requested by ACL from legal and aging/disability professionals falls into the following areas: (1) Requests for training, case consultation, and technical assistance; (2) general requests for legal training (including the volume of webinar registrations), and case consultations.

Comments in Response to the 60-Day Federal Register Notice

A notice published in the Federal Register on, August 30, 2021 in 86 FR 48427. There were zero (0) public comments received during the response period for the 60-day notice.

Estimated Program Burden: The burden hours are calculated at one (1) minute 42 seconds for each respondent to make a request for training, case consultation, or technical assistance. ACL estimates a high end of 20,000 responses with burden hours totaling 700 hours, annually.

ACL estimates the burden associated with this collection of information as follows:

Respondent/data collection activity | Number of respondents | Minutes per response | Annual burden hours
Legal Training, Case Consultation, Technical Assistance Requests | 20,000 | 1 min 42 sec | 700
Outcome Measurement | 5,000 | 1 min 3 sec | 71.59
Total | 25,000 | 4 min 39 sec | 700

Dated: December 12, 2021.
Alison Barkoff,
Principal Deputy Administrator.

[FR Doc. 2021-27258 Filed 12-15-21; 8:45 am]

BILLING CODE 4154-01-P